DEPARTMENT OF DEFENSE

Department of the Army

Availability of the Draft Environmental Impact Statement for the Construction and the Operation of a Battle Area Complex and a Combined Arms Collective Training Facility Within U.S. Army Training Lands in Alaska

AGENCY: Department of the Army, DoD.

ACTION: Notice of availability.

SUMMARY: The Army announces the availability of a Draft Environmental Impact Statement (DEIS) for the construction and operation of a co-located Battle Area Complex (BAX) and a Combined Arms Collective Training Facility (CACTF) within U.S. Army training lands in Alaska, and the execution of routine, joint military training at these locations. The purpose of the proposed project is to provide a year-round, fully automated, multi-purpose, and realistic training facility for U.S. Army, Alaska and other units. The DEIS analyzes the proposed action's impacts upon Alaska's natural and man-made environments. The Army prepared this DEIS in compliance with the National Environmental Policy Act (NEPA).

DATES: Written comments on the DEIS are invited during the 45-day public comment period, which begins on the date the U.S. Environmental Protection Agency publishes notice of receipt of the DEIS in the Federal Register.

ADDRESSES: Written comments should be directed to: Mr. Kevin Gardner, Directorate of Public Works, 730 Quartermaster Road, Attention: APVR-RPW-EV (GARDNER), Fort Richardson, AK 99505-6500; facsimile: (907) 384-3047; e-mail: kevin.gardner@richardson.army.mil.

FOR FURTHER INFORMATION CONTACT: Major Dan Hunter, Public Affairs Officer, 600 Richardson Drive, #5600, ATTN: APVR-RPV-O (HUNTER), Fort Richardson, AK 99505-5600; telephone: (907) 384-3306; facsimile: (907) 384-2060; e-mail: robert.hunter@richardson.army.mil.

SUPPLEMENTARY INFORMATION: U.S. Army, Alaska (USARAK) proposes to construct and to operate a state-of-the-art, fully automated and instrumented combat training facility. This involves the construction and operation of a co-located BAX (rural environment) and CACTF (urban environment). The BAC and CACTF require approximately 3,500 and 800 acres of land suitable for the construction and operation of these ranges, respectively. In addition, a surface danger zone is associated with both, brining the total required area to approximately 30,000 acres.

The purpose of the proposed action is to provide year-round, fully automated, comprehensive, and realistic training and range facilities, which, in combination, would support company (200 soldiers) through battalion (800 soldiers) combat team training events. The construction and operation of a co-located BAX and CACTF would support required higher levels of realistic combat training in both urban and rural environments. Automated facilities will be used to provide timely feedback that is critical to effective training.

The BAX and CACTF would fully train soldiers for war by maintaining unit readiness and availability in recognition of the threats facing our nation and the world today. The BAX would support company combat team live-fire operations on a fully automated rural maneuver range and would provide for joint combined arms team training with other Department of Defense organizations. The CACTF would support battalion combat team training and joint operations in an urban environment.

Tribes, Federal, state, and local agencies and the public were invited to participate in the scoping process for the preparation of this DEIS. The primary issues analyzed in the DEIS include the result of public scoping. These issues are: Soil resources; wildlife and fisheries; cultural resources; surface water (particularly local flooding events); fire management; noise; and human health and safety. These issues have been analyzed based on the following proposed alternative courses of action: (1) No Action (maintain existing range infrastructure and do not construct a BAX and a CACTF); (2) Construction and operation of a BAX and a CACTF within Eddy Drop Zone; (3) Construction and operation of a BAX and a CACTF within Donnelly Drop Zone; and (4) Construction and operation of a BAX and a CACTF within North Texas Range. These three alternative sites are located in Donnelly Training Area, East, which is adjacent to Fort Greely, Alaska.

Copies of the DEIS are available for review at the following locations: Noel Wien Public Library, 1215 Cowles Street, Fairbanks, AK; Delta Junction Public Library, Deborah Street, Delta Junction, AK; Donnelly Training Area Natural Resources Office, Building T100, Room 201, Fort Greely, AK; and Fort Wainwright Environmental Resources Department, Building 3023, Fort Wainwright, AK. A copy of the DEIS may be obtained at the following Web site: http://www.usarak.army.mil/conservation, or by contacting Major Dan Hunter (listed above).

Comments on the DEIS, received during the 45-day public comment period, will be considered in preparing the Final Environmental Impact Statement. The Army will hold public meetings to solicit comments on the DEIS. Notification of the dates, times and locations for the meetings will be published in local newspapers.

John M. Brown III,
Lieutenant General, USA, Commanding General, U.S. Army, Pacific.

[FR Doc. 04-24637 Filed 11-13-04; 8:45 am]

BILLING CODE 3710-08-M